DEPARTMENT OF TRANSPORTATION

Federal Aviation Administration

Consensus Standards, Light-Sport Aircraft

AGENCY: Federal Aviation Administration, DOT.

ACTION: Notice of availability; request for comments.

SUMMARY: This notice announces the availability of certain consensus standards relating to the provisions of the Sport Pilot and Light-Sport Aircraft rule issued July 16, 2004, and effective September 1, 2004. ASTM International Committee F37 on Light Sport Aircraft developed these standards with FAA participation. By this Notice, the FAA finds these standards acceptable for certification of the specified aircraft under the provisions of the Sport Pilot and Light-Sport Aircraft rule.

DATES: Comments must be received on or before May 2, 2005.

ADDRESSES: Comments may be mailed to: Federal Aviation Administration, Small Airplane Directorate, Programs and Procedures Branch, ACE-114, Attention: Larry Werth, Room 301, 901 Locust, Kansas City, Missouri 64106. Comments may also be e-mailed to: Comments-on-LSA-Standard@faa.gov. All comments must be marked: Consensus Standards Comments, and must specify the standard being addressed by ASTM designation and title.

FOR FURTHER INFORMATION CONTACT: Larry Werth, Light-Sport Aircraft Program Manager, Programs and Procedures Branch (ACE-114), Small Airplane Directorate, Aircraft Certification Service, Federal Aviation Administration, 901 Locust, Room 301, Kansas City, Missouri 64106; telephone (816) 329-4147; e-mail: larry.werth@faa.gov.

SUPPLEMENTARY INFORMATION: This notice announces the availability of certain consensus standards relating to the provisions of the Sport Pilot and Light-Sport Aircraft rule. ASTM International Committee F37 on Light Sport Aircraft developed these standards.

Comments Invited: Interested persons are invited to submit such written data, views, or arguments, as they may desire. Communications should identify the consensus standard number and be submitted to the address specified above. All communications received on or before the closing date for comments will be forwarded to ASTM International Committee F37 for consideration. The standards may be changed in light of the comments received. The FAA will address all comments received during the recurring review of the consensus standards and will participate in the consensus standards revision process.

Background: Under the provisions of the Sport Pilot and Light-Sport Aircraft rule, and revised Office of Management and Budget (OMB) Circular A-119, “Federal Participation in the Development and Use of Voluntary Consensus Standards and in Conformity Assessment Activities”, dated February 10, 1998, industry and the FAA have been working with ASTM International to develop consensus standards for light-sport aircraft. These consensus standards satisfy the FAA's goal for airworthiness certification and a verifiable minimum safety level for light-sport aircraft. Instead of developing airworthiness standards through the rulemaking process, the FAA participates as a member of Committee F37 in developing these standards. The use of the consensus standard process assures government and industry discussion and agreement on appropriate standards for the required level of safety.

The FAA has reviewed the fifteen standards presented in this NOA for compliance with the regulatory requirements of the rule. Any light-sport aircraft issued a special light-sport airworthiness certificate, which has been designed, manufactured, operated and maintained, in accordance with these consensus standards provides the public with the appropriate level of safety established under the regulations. Manufacturers who choose to produce these aircraft and certificate these aircraft under 14 CFR part 21, §§ 21.190 or 21.191 are subject to the applicable consensus standard requirements. The FAA will post a listing of all accepted standards at afs600.faa.gov.

In developing the Sport Pilot and Light-Sport Aircraft rule, the FAA had expected that certain consensus standards, such as quality assurance and continued airworthiness, would be similar across the range of light-sport aircraft. For the consensus standards found acceptable in this NOA, the FAA acknowledges that there are differences in depth and detail of the consensus standards between light-sport airplanes and the other light-sport aircraft. The FAA will monitor service experience to see if differences in aircraft complexity continue to justify these differences.

The consensus standards listed in this notice are the standards that are currently approved by ASTM International Committee F37. The FAA is aware that the committee continues the development of additional consensus standards including some that are needed to certificate aircraft under 14 CFR, part 21, §§ 21.190 or 21.191. This ongoing work involves:

a. Sailplane design, quality assurance, and continued operational safety.

b. Powered parachute wing interface documentation.

c. Weight shift aircraft design, continued airworthiness, quality assurance, production testing, design testing, and required product information.

d. Light-sport aircraft required equipment information.

e. Light-sport aircraft propeller design.

f. Lighter than air design, and required product information.

g. Gyroplane quality assurance.

h. Maintenance manual content.

i. Guide for noise.

The FAA anticipates that these additional standards will be available in the near future. The FAA will review all forthcoming standards for compliance to appropriate regulatory requirements, and will publish notices of availability as these are finalized.

The Effective Period of Use

The consensus standards listed in this notice may be used unless the FAA publishes a specific notification otherwise.

The Consensus Standards

The FAA finds the following consensus standards acceptable for certification of the specified aircraft under the provisions of the Sport Pilot and Light-Sport Aircraft rule:

a. ASTM Designation 2240-03, titled: Standard Specification for Manufacturer Quality Assurance Program for Powered Parachute Aircraft.

b. ASTM Designation 2241-03, titled: Standard Specification for Continued Airworthiness System for Powered Parachute Aircraft.

c. ASTM Designation 2242-03, titled: Standard Specification for Production Acceptance Testing System for Powered Parachute Aircraft.

d. ASTM Designation 2243-03, titled: Standard Specification for Required Product Information to be provided with Powered Parachute Aircraft.

e. ASTM Designation 2244-03, titled: Standard Specification for Design and Performance Requirements for Powered Parachute Aircraft.

f. ASTM Designation F2245-04, titled: Standard Specification for the Design and Performance of a Light Sport Airplane.

g. ASTM Designation F2279-03, titled: Standard Practice for Quality Assurance in the Manufacture of Light Sport Airplanes.

h. ASTM Designation F2295-03, titled: Standard Practice for the Continued Operational Safety Monitoring of a Light Sport Airplane.

i. ASTM Designation F2316-03, titled: Standard Specification for Airframe Emergency Parachutes for Light Sport Aircraft.

j. ASTM Designation F2339-04, titled: Standard Practice for the Design and Manufacture of Reciprocating Spark Ignition Engines for Light Sport Aircraft.

k. ASTM Designation F2352-04, titled: Standard Specification for Design and Performance of Light Sport Gyroplane Aircraft.

l. ASTM Designation F2353-04, titled: Standard Specification for Manufacturers Quality Assurance Program for Lighter Than Air Light Sport Aircraft.

m. ASTM Designation F2354-04, titled: Standard Specification for Continued Airworthiness System for Lighter Than Air Light Sport Aircraft.

n. ASTM Designation F2356-04, titled: Standard Specification for Production Acceptance Testing System for Lighter Than Air Light Sport Aircraft.

o. ASTM Designation F2415-04, titled: Standard Practice for Continued Airworthiness System for Light Sport Gyroplane Aircraft.

The Preamble to the Sport Pilot and Light-Sport Aircraft rule states the FAA will evaluate the service experience of gyroplanes manufactured and operated in accordance with the applicable consensus standards. The FAA may revise the rule based on its evaluation of service experience permitting gyroplanes to obtain the special airworthiness certificate for a light-sport aircraft.

Availability

The consensus standards above are copyrighted by ASTM International, 100 Barr Harbor Drive, PO Box C700, West Conshohocken, PA 19428-2959. Individual reprints of these standards (single or multiple copies, or special compilations and other related technical information) may be obtained by contacting ASTM at this address, or at (610) 832-9585 (phone), (610) 832-9555 (fax), through service@astm.org (e-mail), or through the ASTM Web site at http://www.astm.org. To inquire about standard content and/or membership, or about ASTM International Offices abroad, contact Daniel Schultz, Staff Manager for Committee F37 on Light Sport Aircraft: (610) 832-9716, dschultz@astm.org.

Issued in Washington, DC, on February 16, 2005.
John J. Hickey,
Director, Aircraft Certification Service.

[FR Doc. 05-4136 Filed 3-2-05; 8:45 am]

BILLING CODE 4910-13-P